UNITED STATES INTERNATIONAL TRADE COMMISSION

Sunshine Act Meeting

AGENCY HOLDING THE MEETING: United States International Trade Commission.

TIME AND DATE: July 9, 2001 at 11 a.m.

PLACE: Room 101, 500 E Street, SW., Washington, DC 20436, Telephone: (202) 205-2000.

STATUS: Open to the public.

MATTERS TO BE CONSIDERED: 1. Agenda for future meeting: None.

2. Minutes.

3. Ratification List.

4. Inv. Nos. 731-TA-935-942 (Preliminary)(Certain Structural Steel Beams from China, Germany, Italy, Luxembourg, Russia, South Africa, Spain, and Taiwan)—briefing and vote. (The Commission is currently scheduled to transmit its determination to the Secretary of Commerce on July 9, 2001; Commissioners' opinions are currently scheduled to be transmitted to the Secretary of Commerce on July 16, 2001.)

5. Inv. Nos. 731-TA-943-947 (Preliminary)(Circular Welded Non-Alloy Steel Pipe from China, Indonesia, Malaysia, Romania, and South Africa)—briefing and vote. (The Commission is currently scheduled to transmit its determination to the Secretary of Commerce on July 9, 2001; Commissioners' opinions are currently scheduled to be transmitted to the Secretary of Commerce on July 16, 2001.)

6. Outstanding action jackets:

Document No. GC-01-068: Concerning Inv. No. 337-TA-455 (Certain Network Interface Cards and Access Points for Use in Direct Sequence Spread Spectrum Wireless Local Area Networks and Products Containing Same).

In accordance with Commission policy, subject matter listed above, not disposed of at the scheduled meeting, may be carried over to the agenda of the following meeting.

By order of the Commission. Issued: June 29, 2001.
Donna R. Koehnke,
Secretary.

[FR Doc. 01-16857 Filed 6-29-01; 3:44 pm]

BILLING CODE 7020-02-P